NUCLEAR REGULATORY COMMISSION

[NRC-2009-0498]

Biweekly Notice: Applications and Amendments to Facility Operating Licenses Involving No Significant Hazards Considerations

I. Background

Pursuant to section 189a. (2) of the Atomic Energy Act of 1954, as amended (the Act), the U.S. Nuclear Regulatory Commission (the Commission or NRC) is publishing this regular biweekly notice. The Act requires the Commission publish notice of any amendments issued, or proposed to be issued and grants the Commission the authority to issue and make immediately effective any amendment to an operating license upon a determination by the Commission that such amendment involves no significant hazards consideration, notwithstanding the pendency before the Commission of a request for a hearing from any person.

This biweekly notice includes all notices of amendments issued, or proposed to be issued from October 22, 2009 to November 4, 2009. The last biweekly notice was published on November 3, 2009 (74 FR 56882).

Notice of Consideration of Issuance of Amendments to Facility Operating Licenses, Proposed No Significant Hazards Consideration Determination, and Opportunity for a Hearing

The Commission has made a proposed determination that the following amendment requests involve no significant hazards consideration. Under the Commission's regulations in Title 10 of the Code of Federal Regulations (10 CFR), Section 50.92, this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example, in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Written comments may be submitted by mail to the Chief, Rulemaking and Directives Branch (RDB), TWB-05-B01M, Division of Administrative Services, Office of Administration, U.S. Nuclear Regulatory Commission, Washington, DC 20555-0001, and should cite the publication date and page number of this Federal Register notice. Written comments may also be faxed to the RDB at 301-492-3446. Documents may be examined, and/or copied for a fee, at the NRC's Public Document Room (PDR), located at One White Flint North, Public File Area O1F21, 11555 Rockville Pike (first floor), Rockville, Maryland.

Within 60 days after the date of publication of this notice, any person(s) whose interest may be affected by this action may file a request for a hearing and a petition to intervene with respect to issuance of the amendment to the subject facility operating license. Requests for a hearing and a petition for leave to intervene shall be filed in accordance with the Commission's “Rules of Practice for Domestic Licensing Proceedings” in 10 CFR Part 2. Interested person(s) should consult a current copy of 10 CFR 2.309, which is available at the Commission's PDR, located at One White Flint North, Public File Area O1F21, 11555 Rockville Pike (first floor), Rockville, Maryland. Publicly available records will be accessible from the Agencywide Documents Access and Management System's (ADAMS) Public Electronic Reading Room on the Internet at the NRC Web site, http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the petitioner/requestor seeks to have litigated at the proceeding.

Each contention must consist of a specific statement of the issue of law or fact to be raised or controverted. In addition, the petitioner/requestor shall provide a brief explanation of the bases for the contention and a concise statement of the alleged facts or expert opinion which support the contention and on which the petitioner/requestor intends to rely in proving the contention at the hearing. The petitioner/requestor must also provide references to those specific sources and documents of which the petitioner is aware and on which the petitioner/requestor intends to rely to establish those facts or expert opinion. The petition must include sufficient information to show that a genuine dispute exists with the applicant on a material issue of law or fact. Contentions shall be limited to matters within the scope of the amendment under consideration. The contention must be one which, if proven, would entitle the petitioner/requestor to relief. A petitioner/requestor who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, any hearing held would take place before the issuance of any amendment.

All documents filed in NRC adjudicatory proceedings, including a request for hearing, a petition for leave to intervene, any motion or other document filed in the proceeding prior to the submission of a request for hearing or petition to intervene, and documents filed by interested governmental entities participating under 10 CFR 2.315(c), must be filed in accordance with the NRC E-Filing rule, which the NRC promulgated in August 28, 2007 (72 FR 49139). The E-Filing process requires participants to submit and serve all adjudicatory documents over the internet, or in some cases to mail copies on electronic storage media. Participants may not submit paper copies of their filings unless they seek an exemption in accordance with the procedures described below.

To comply with the procedural requirements of E-Filing, at least ten (10) days prior to the filing deadline, the petitioner/requestor should contact the Office of the Secretary by e-mail at hearing.docket@nrc.gov, or by calling (301) 415-1677, to request (1) a digital ID certificate, which allows the participant (or its counsel or representative) to digitally sign documents and access the E-Submittal server for any proceeding in which it is participating; and/or (2) creation of an electronic docket for the proceeding (even in instances in which the petitioner/requestor (or its counsel or representative) already holds an NRC-issued digital ID certificate). Each petitioner/requestor will need to download the Workplace Forms Viewer™ to access the Electronic Information Exchange (EIE), a component of the E-Filing system. The Workplace Forms Viewer™ is free and is available at http://www.nrc.gov/site-help/e-submittals/install-viewer.html. Information about applying for a digital ID certificate is available on NRC's public Web site at http://www.nrc.gov/site-help/e-submittals/apply-certificates.html.

Once a petitioner/requestor has obtained a digital ID certificate, had a docket created, and downloaded the EIE viewer, it can then submit a request for hearing or petition for leave to intervene. Submissions should be in Portable Document Format (PDF) in accordance with NRC guidance available on the NRC public Web site at http://www.nrc.gov/site-help/e-submittals.html. A filing is considered complete at the time the filer submits its documents through EIE. To be timely, an electronic filing must be submitted to the EIE system no later than 11:59 p.m. Eastern Time on the due date. Upon receipt of a transmission, the E-Filing system time-stamps the document and sends the submitter an e-mail notice confirming receipt of the document. The EIE system also distributes an e-mail notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the agency's adjudicatory E-filing system may seek assistance through the “Contact Us” link located on the NRC Web site at http://www.nrc.gov/site-help/e-submittals.html or by calling the NRC Meta-System Help Desk, which is available between 8 a.m. and 8 p.m., Eastern Time, Monday through Friday, excluding government holidays. The Meta-System Help Desk can be contacted by telephone at 1-866-672-7640 or by e-mail at MSHD.Resource@nrc.gov.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service.

Non-timely requests and/or petitions and contentions will not be entertained absent a determination by the Commission, the presiding officer, or the Atomic Safety and Licensing Board that the request and/or petition should be granted and/or the contentions should be admitted, based on a balancing of the factors specified in 10 CFR 2.309(c)(1)(i)-(viii).

Documents submitted in adjudicatory proceedings will appear in NRC's electronic hearing docket which is available to the public at http://ehd.nrc.gov/EHD_Proceeding/home.asp, unless excluded pursuant to an order of the Commission, an Atomic Safety and Licensing Board, or a Presiding Officer. Participants are requested not to include personal privacy information, such as social security numbers, home addresses, or home phone numbers in their filings, unless an NRC regulation or other law requires submission of such information. With respect to copyrighted works, except for limited excerpts that serve the purpose of the adjudicatory filings and would constitute a Fair Use application, participants are requested not to include copyrighted materials in their submissions.

For further details with respect to this license amendment application, see the application for amendment which is available for public inspection at the Commission's PDR, located at One White Flint North, Public File Area O1F21, 11555 Rockville Pike (first floor), Rockville, Maryland. Publicly available records will be accessible from the ADAMS Public Electronic Reading Room on the Internet at the NRC Web site, http://www.nrc.gov/reading-rm/adams.html. Persons who do not have access to ADAMS or who encounter problems in accessing the documents located in ADAMS, should contact the NRC PDR Reference staff at 1-800-397-4209, 301-415-4737, or by e-mail to pdr.resource@nrc.gov.

Entergy Operations, Inc., Docket No. 50-382, Waterford Steam Electric Station, Unit 3, St. Charles Parish, Louisiana

Date of amendment request: September 9, 2009.

Description of amendment request: The proposed amendment revises Technical Specification (TS) 3/4.9.7, “Crane Travel—Fuel Handling Building,” to permit certain operations needed for dry cask storage of spent nuclear fuel. Specifically, the proposed change to this TS (while continuing to prohibit travel of a heavy load over irradiated fuel assemblies in the spent fuel pool) would permit travel of loads in excess of 2,000 pounds (lbs) over a transfer cask containing irradiated fuel assemblies, provided a single-failure-proof handling system is used.

Basis for proposed no significant hazards consideration determination: As required by 10 CFR 50.91(a), the licensee has provided its analysis of the issue of no significant hazards consideration, which is presented below:

1. Does the proposed change involve a significant increase in the probability or consequences of an accident previously evaluated?

Response: No.

The FHB [fuel handling building] cask crane will be upgraded to meet the applicable single-failure-proof criteria of NUREG 0554 (Reference 7.10 [NUREG-0554, Single-Failure-Proof Cranes for Nuclear Power Plants, U.S. Nuclear Regulatory Commission, May 1979]) and NUREG 0612 (Reference 7.13 [NUREG-0612, Control of Heavy Loads at Nuclear Power Plants, U.S. Nuclear Regulatory Commission, July 1980 (ADAMS Accession No. ML070250180)] for the modification of the existing non single-failure-proof crane. Due to the reliability of this upgraded handling system, a load drop accident will not be considered a credible event. While loads in excess of 2000 lbs shall continue to be prohibited from travel over irradiated fuel assemblies in the spent fuel pool by the WF3 [Waterford 3] Technical Specifications, heavy loads will be permitted to travel over irradiated fuel assemblies in a transfer cask, using a single-failure-proof handling system as described in NUREG-0800 Section 9.1.5 Paragraph III.4.C (Reference 7.9 [NUREG-0800 Section 9.1.5 Rev. 1, Standard Review Plan for Overhead Heavy Load Handling Systems, March 2007 (ADAMS Accession No. ML062260190)]), to enable the conduct of dry cask storage loading/unloading operations. Specifically, this will enable the MPC [multi-purpose canister] lid and its associated lifting apparatus to travel over irradiated fuel assemblies in a MPC basket. The probability of dropping a load that weighs in excess of 2000 lbs onto an irradiated fuel assembly is not increased as a result of the reliability of the single-failure-proof handling system.

The proposed change does not affect the consequences of any accidents previously evaluated in the WF3 UFSAR [Updated Final Safety Analysis Report] (Reference 7.1 [Waterford Steam Electric Station Unit No. 3, Updated Final Safety Analysis Report, Revision 302, December 2008]). The change involves the travel of heavy loads over irradiated fuel assemblies in a transfer cask using a single-failure-proof handling system. Under these circumstances, no new load drop accidents are postulated and no changes to the probabilities or consequences of accidents previously evaluated are involved.

2. Does the proposed change create the possibility of a new or different kind of accident from any accident previously evaluated?

Response: No.

Section 9.1 of the WF3 UFSAR evaluates fuel storage and handling operations. Section 15.7.3.4 of the WF3 UFSAR discusses the analysis of design basis fuel handling accidents involving drop of an irradiated assembly resulting in multiple fuel rod failures and consequent release of radioactivity. The change involves the travel of heavy loads over irradiated fuel assemblies in a transfer cask using a single-failure-proof handling system. Under these circumstances, no new or different load drop accidents are postulated to occur and there are no changes in any of the load drop accidents previously evaluated.

3. Does the proposed change involve a significant reduction in a margin of safety?

Response: No.

The revised Technical Specification changes do not involve a reduction in any margin of safety. Technical Specification 3/4.9.7 currently prohibits travel of heavy loads over irradiated fuel assemblies in the FHB. Proposed changes to this specification will continue to restrict FHB cask crane movements so that travel of heavy loads over irradiated fuel assemblies in the FHB are not permitted, with the single exception of heavy loads over irradiated fuel assemblies in a transfer cask, in order to enable dry cask storage operations. This operation is only permitted when the heavy load is handled using a single-failure-proof handling system. Due to the reliability of this upgraded handling system that complies with the guidance of NUREG-0800 Section 9.1.5 Paragraph III.4.C (Reference 7.9) for a single-failure-proof handling system, a load drop accident is not considered a credible event. Under these circumstances, no new load drop accidents are postulated and no reductions in margins of safety are involved.

The NRC staff has reviewed the licensee's analysis and, based on this review, it appears that the three standards of 10 CFR 50.92(c) are satisfied. Therefore, the NRC staff proposes to determine that the amendment request involves no significant hazards consideration.

Attorney for licensee: Terence A. Burke, Associate General Counsel—Nuclear Entergy Services, Inc., 1340 Echelon Parkway, Jackson, Mississippi 39213.

NRC Branch Chief: Michael T. Markley.

FirstEnergy Nuclear Operating Company, et al., Docket No. 50-440, Perry Nuclear Power Plant, Unit No. 1, Lake County, Ohio

Date of amendment request: June 30, 2009.

Description of amendment request: The proposed amendment would modify a Surveillance Requirement (SR) regarding the start time tests for the Division 3 Emergency Diesel Generator (EDG) to provide consistency with existing similar Technical Specification (TS) SRs and the time provided in the licensing basis emergency core cooling system analyses.

Basis for proposed no significant hazards consideration determination: As required by 10 CFR 50.91(a), the licensee has provided its analysis of the issue of no significant hazards consideration which is presented below:

1. Does the proposed amendment involve a significant increase in the probability or consequences of an accident previously evaluated?

Response: No.

The proposed amendment corrects and makes consistent the acceptance criteria for the [Perry Nuclear Power Plant] PNPP TS SR pertaining to the Division 3 EDG. The EDGs mitigate the consequences of previously evaluated accidents involving a loss of offsite power. The EDGs are used to support mitigation of the consequences of an accident, but they are not considered as the initiator of any previously analyzed accident.

The proposed amendment will continue to ensure the EDGs perform their function when called upon to mitigate the consequences of events. The proposed revision to the TS SRs will continue to maintain the capability of the Division 3 [High Pressure Core Spray] HPCS system to respond within the times assumed in the Emergency Core Cooling System (ECCS) analyses.

The proposed amendment does not affect the design of the EDGs, the interfaces between the EDGs and other plant systems, or the function and reliability of the EDGs. Thus, the EDGs will continue to be capable of performing their accident mitigation function and there is no impact to the radiological consequences determined in any accident analysis.

As such, the proposed amendment continues to provide adequate assurance of an operable EDG and does not involve any increase to the probability or to the consequences of any accident previously evaluated.

2. Does the proposed amendment create the possibility of a new or different kind of accident from any accident previously evaluated?

Response: No.

The proposed change is an amendment that introduces no new mode of plant operation and it does not involve physical modification to the plant. New equipment is not installed with the proposed amendment, nor does the proposed amendment cause existing equipment to be operated in a new or different manner.

Since the proposed amendment does not involve a change to the plant design or operation, no new system interactions are created by this change. The proposed amendment does not produce any parameters or conditions that could contribute to the initiation of accidents different from those already evaluated in the Updated Safety Analysis Report. The change to the affected TS SR does not affect the assumed accident performance of the EDG, nor any plant structure, system or component previously evaluated.

Therefore, the proposed amendment does not create the possibility of a new or different kind of accident from any accident previously evaluated.

3. Does the proposed amendment involve a significant reduction in a margin of safety?

Response: No.

The proposed change is an amendment that does not impact EDG performance as incorporated in the design basis analyses, including the capability for the EDG to attain and maintain required voltage and frequency for accepting and supporting plant safety loads should an EDG start signal be received. The operability of the EDG continues to be determined as required to provide emergency power to plant equipment that mitigates the consequences of a transient or accident, and maintains the HPCS system's capability to respond within the time assumed in the accident analyses.

The proposed amendment does not introduce changes to setpoints or limits established in the accident analysis. As a result of the above considerations, it is concluded that implementation of the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: David W. Jenkins, Attorney, FirstEnergy Corporation, Mail Stop A-GO-15, 76 South Main Street, Akron, OH 44308.

NRC Branch Chief: Stephen J. Campbell.

PSEG Nuclear LLC, Docket Nos. 50-272 and 50-311, Salem Nuclear Generating Station, Unit Nos. 1 and 2, Salem County, New Jersey

Date of amendment request: September 14, 2009.

Description of amendment request: The proposed amendment would correct editorial items in the Technical Specifications (TS) and the Facility Operating License (FOL).

Basis for proposed no significant hazards consideration determination: As required by 10 CFR 50.91(a), the licensee has provided its analysis of the issue of no significant hazards consideration, which is presented below:

1. Do the proposed changes involve a significant increase in the probability or consequences of an accident previously evaluated?

Response: No.

The proposed changes to TS and the FOL are administrative in nature that correct typographical errors, correct format errors, correct inconsistencies between Units, or delete historical requirements that have expired. These changes do not affect the intent of any TS requirements.

The proposed change does not have any impact on structures, systems and components (SSCs) of the plant, and no effect on plant operations. The proposed change does not impact any accident initiators or analyzed events or assumed mitigation of accident or transient events. They do not involve the addition or removal of any equipment, or any design changes to the facility. Therefore, this proposed change does not represent a significant increase in the probability or consequences of an accident previously evaluated.

2. Do the proposed changes create the possibility of a new or different kind of accident from any accident previously evaluated?

Response: No.

The proposed changes to TS and the FOL are administrative in nature that correct typographical errors, correct format errors, correct inconsistencies between Units, or delete historical requirements that have expired. These changes do not affect the intent of any TS requirements.

The proposed change does not involve a modification to the physical configuration of the plant (i.e., no new equipment will be installed) or change in the methods governing normal plant operation. The proposed change will not impose any new or different requirements or introduce a new accident initiator, accident precursor, or malfunction mechanism. Additionally, there is no change in the types or increases in the amounts of any effluent that may be released off-site and there is no increase in individual or cumulative occupational exposure. Therefore, the proposed changes do not create the possibility of a new or different kind of accident from any accident previously evaluated.

3. Do the proposed changes involve a significant reduction in a margin of safety?

Response: No.

The proposed changes to TS and the FOL are administrative in nature that correct typographical errors, correct format errors, correct inconsistencies between Units, or delete historical requirements that have expired. These changes do not affect the intent of any TS requirements.

The proposed change incorporates corrections to the TS and FOL and results in improved accuracy of these licensing documents. There is no change to any design basis, licensing basis or safety limit, no change to any parameters; consequently no safety margins are affected. Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Vincent Zabielski, PSEG Nuclear LLC—N21, P.O. Box 236, Hancocks Bridge, NJ 08038.

NRC Branch Chief: Harold K. Chernoff.

PSEG Nuclear LLC, Docket No. 50-272, Salem Nuclear Generating Station, Unit No. 1, Salem County, New Jersey

Date of amendment request: September 21, 2009.

Description of amendment request: The proposed amendment would revise Technical Specification 6.8.4.f, “Primary Containment Leakage Rate Testing Program,” to allow a one-time extension of the containment Type A integrated leakage rate test interval from 10 to 15 years.

Basis for proposed no significant hazards consideration determination: As required by 10 CFR 50.91(a), the licensee has provided its analysis of the issue of no significant hazards consideration, which is presented below:

1. Does the proposed amendment involve a significant increase in the probability or consequences of an accident previously evaluated?

Response: No.

The proposed change would revise Technical Specification (TS) 6.8.4.f, “Primary Containment Leakage Rate Testing Program,” to permit a one-time extension of the containment Type A Integrated Leak Rate Test (ILRT) from ten to fifteen years.

The function of the containment is to isolate and contain fission products released from the reactor coolant system following a design basis Loss of Coolant Accident (LOCA) and to confine the postulated release of radioactive material to within limits. The test interval associated with the performance of containment leakage testing is not an initiating event for any accident previously evaluated. There are no physical changes being made to the containment structure and no change made to the containment allowable leakage rate specified in Technical Specifications.

During the extended test interval, containment integrity will continue to be assured by programs for local leak rate testing and containment inspections are routinely performed as required by [the American Society of Mechanical Engineers (ASME) Boiler and Pressure Vessel Code (Code)] which demonstrates the structural integrity of the primary containment. The proposed changes do not affect performance of the containment, reactor operations or accident analysis.

The risk assessment of the proposed change has concluded that there is not a significant increase in the consequences of an accident as measured by the Large Early Release Frequency, Population Dose, and Conditional Containment Failure Frequency. These results show that an ILRT test extension will not represent a significant increase in the consequences of an accident.

Therefore, the proposed change does not involve a significant increase in the probability or consequences of an accident previously evaluated.

2. Does the proposed amendment create the possibility of a new or different kind of accident from any accident previously evaluated?

Response: No.

The proposed change for a one-time, five-year extension of the Type A test makes no physical changes to the plant or to plant operations. No credible new failure mechanisms, malfunctions or accident initiators are being introduced by the proposed change.

Therefore, the proposed change does not create the possibility of a new or different kind of accident from any previously evaluated.

3. Does the proposed amendment involve a significant reduction in a margin of safety?

Response: No.

The integrity of the containment penetrations and isolation valves is verified through Type B and Type C local leak rate tests (LLRTs) and the overall leak tight integrity of the containment is verified by a Type A ILRT, as required by [Title 10 of the Code of Federal Regulations (10 CFR), Part 50], Appendix J, “Primary Reactor Containment Leakage Testing for Water-Cooled Power Reactors.” The proposed change does not affect the method or acceptance criteria for Type A, B and C testing. During the extended test interval, containment inspections performed in accordance with the requirements of the [ASME Code], Section XI, “Inservice Inspection,” and 10 CFR 50.65, “[Requirements for monitoring the effectiveness of maintenance at nuclear power plants],” provide assurance that the containment will not degrade in a manner that is only detectable by Type A testing.

The effect of the proposed change on Large Early Release Frequency, person-rem, and Conditional Containment Failure Frequency was determined not to be significant.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Vincent Zabielski, PSEG Nuclear LLC—N21, P.O. Box 236, Hancocks Bridge, NJ 08038.

NRC Branch Chief: Harold K. Chernoff.

Southern California Edison Company, et al., Docket Nos. 50-361 and 50-362, San Onofre Nuclear Generating Station, Units 2 and 3, San Diego County, California

Date of amendment request: August 10, 2009.

Description of amendment request: The amendments would revise Technical Specification 3.7.5, “Auxiliary Feedwater (AFW) System,” to allow a 7-day Completion Time for the turbine-driven AFW pump if the inoperability occurs in MODE 3, following a refueling outage and if MODE 2 had not been entered. This change is based on the U.S. Nuclear Regulatory Commission (NRC)-approved Technical Specification Task Force (TSTF) traveler, TSTF-340, Revision 3.

Basis for proposed no significant hazards consideration determination: As required by 10 CFR 50.91(a), the licensee has provided its analysis of the issue of no significant hazards consideration, which is presented below:

1. Does the proposed change involve a significant increase in the probability or consequences of an accident previously evaluated?

Response: No.

The proposed changes do not involve a significant increase in the probability or consequences of an accident previously evaluated.

The proposed amendment to Technical Specification 3.7.5 would allow a seven day Completion Time for Condition A for the turbine-driven Auxiliary Feedwater (AFW) pump if the inoperability occurs in MODE 3 following a refueling outage, if MODE 2 had not been entered. Extending the Completion Time does not involve a significant increase in the probability or consequences of an accident previously evaluated because: (1) The proposed amendment does not represent a change to the system design, (2) the proposed amendment does not prevent the safety function of the AFW system from being performed, since the other fully redundant essential trains are required to be operable, (3) the proposed amendment does not alter, degrade, or prevent action described or assumed in any accident described in the San Onofre Nuclear Generating Station (SONGS) Updated Final Safety Analysis Report (UFSAR) from being performed since the other trains of AFW are required to be operable, (4) the proposed amendment does not alter any assumptions previously made in evaluating radiological consequences, and (5) the proposed amendment does not affect the integrity of any fission product barrier. No other safety related equipment is affected by the proposed change.

Therefore, this proposed amendment does not involve a significant increase in the probability or consequences of an accident previously evaluated.

2. Does the proposed change create the possibility of a new or different kind of accident from any accident previously evaluated?

Response: No.

The proposed changes do not create the possibility of a new or different kind of accident from any accident previously evaluated.

The proposed amendment to Technical Specification 3.7.5 would allow a seven day Completion Time for Condition A for the turbine-driven AFW pump if the inoperability occurs in MODE 3 following a refueling outage, if MODE 2 had not been entered. Extending the Completion Time does not create the possibility of a new or different kind of accident from any accident previously evaluated because: (1) The proposed amendment does not represent a change to the system design, (2) the proposed amendment does not alter how equipment is operated or the ability of the system to deliver the required AFW flow, and (3) the proposed amendment does not affect any other safety related equipment.

Therefore, the proposed amendment does not create the possibility of a new or different kind of accident from any accident previously evaluated.

3. Does the proposed change involve a significant reduction in a margin of safety?

Response: No.

The proposed changes do not involve a significant reduction in a margin of safety.

The SONGS safety analysis credits AFW pump delivery of 500 [gallons per minute] gpm at a steam generator pressure of 1097 [pounds per square inch absolute] psia and 700 gpm at a steam generator pressure of 890 psia to meet Accident Analysis flow requirements.

The proposed amendment to Technical Specification 3.7.5 would allow a seven day Completion Time for Condition A for the turbine-driven AFW pump if the inoperability occurs in MODE 3 following a refueling outage, if MODE 2 had not been entered. Extending the Completion Time does not involve a significant reduction in a margin of safety because: (1) During a return to power operations following a refueling outage, decay heat is at its lowest levels, (2) the other AFW trains are required to be OPERABLE when MODE 3 is entered, [and] (3) the motor-driven AFW train can provide sufficient flow to remove decay heat and cool the unit to Shutdown Cooling System entry conditions from power operations.

Therefore, the proposed amendment does not involve a significant reduction in a margin of safety.

The NRC staff has reviewed the licensee's analysis and, based on that review, it appears that the three standards of 10 CFR 50.92(c) are satisfied. Therefore, the NRC staff proposes to determine that the request for amendments involves no significant hazards consideration.

Attorney for licensee: Douglas K. Porter, Esquire, Southern California Edison Company, 2244 Walnut Grove Avenue, Rosemead, California 91770.

NRC Branch Chief: Michael T. Markley.

Tennessee Valley Authority, Docket No. 50-390, Watts Bar Nuclear Plant, Unit 1, Rhea County, Tennessee

Date of amendment request: October 20, 2009.

Description of amendment request: The proposed amendment would delete paragraph d of Technical Specification 5.2.2, “Unit Staff,” superseded by Title 10 of the Code of Federal Regulations Part 26, Subpart I.

Basis for proposed no significant hazards consideration determination: As required by 10 CFR 50.91(a), the licensee has provided its analysis of the issue of no significant hazards consideration, which is presented below:

1. The proposed change does not involve a significant increase in the probability or consequences of an accident previously evaluated.

The proposed change removes Technical Specification (TS) restrictions on working hours for personnel who perform safety related functions. The TS restrictions are superseded by the worker fatigue requirements in 10 CFR Part 26. The proposed change does not impact the physical configuration or function of plant structures, systems, or components (SSCs) or the manner in which SSCs are operated, maintained, modified, tested, or inspected. Worker fatigue is not an initiator of any accident previously evaluated. Worker fatigue is not an assumption in the consequence mitigation of any accident previously evaluated.

Therefore, it is concluded that this change does not involve a significant increase in the probability or consequences of an accident previously evaluated.

2. The proposed change does not create the possibility of a new or different kind of accident from any accident previously evaluated.

The proposed change removes TS restrictions on working hours for personnel who perform safety related functions. The TS restrictions are superseded by the worker fatigue requirements in 10 CFR Part 26. Working hours will continue to be controlled in accordance with NRC requirements. The new rule allows for deviations from controls to mitigate or prevent a condition adverse to safety or as necessary to maintain the security of the facility. This ensures that the new rule will not unnecessarily restrict working hours and thereby create the possibility of a new or different kind of accident from any accident previously evaluated.

The proposed change does not alter the plant configuration, require new plant equipment to be installed, alter accident analysis assumptions, add any initiators, or effect the function of plant systems or the manner in which systems are operated, maintained, modified, tested, or inspected.

Therefore, the proposed change does not create the possibility of a new or different kind of accident from any previously evaluated.

3. The proposed change does not involve a significant reduction in a margin of safety.

The proposed change removes TS restrictions on working hours for personnel who perform safety related functions. The TS restrictions are superseded by the worker fatigue requirements in 10 CFR Part 26. The proposed change does not involve any physical changes to plant or alter the manner in which plant systems are operated, maintained, modified, tested, or inspected. The proposed change does not alter the manner in which safety limits, limiting safety system settings or limiting conditions for operation are determined. The safety analysis acceptance criteria are not affected by this change. The proposed change will not result in plant operation in a configuration outside the design basis. The proposed change does not adversely affect systems that respond to safely shutdown the plant and to maintain the plant in a safe shutdown condition.

Removal of plant-specific TS administrative requirements will not reduce a margin of safety because the requirements in 10 CFR Part 26 are adequate to ensure that worker fatigue is managed.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: General Counsel, Tennessee Valley Authority, 400 West Summit Hill Drive, ET 11A, Knoxville, Tennessee 37902.

NRC Branch Chief: L. Raghavan.

Previously Published Notices of Consideration of Issuance of Amendments to Facility Operating Licenses, Proposed No Significant Hazards Consideration Determination, and Opportunity for a Hearing

The following notices were previously published as separate individual notices. The notice content was the same as above. They were published as individual notices either because time did not allow the Commission to wait for this biweekly notice or because the action involved exigent circumstances. They are repeated here because the biweekly notice lists all amendments issued or proposed to be issued involving no significant hazards consideration.

For details, see the individual notice in the Federal Register on the day and page cited. This notice does not extend the notice period of the original notice.

Nine Mile Point Nuclear Station, LLC, Docket No. 50-220, Nine Mile Point Nuclear Station, Unit No. 1, Oswego Count, New York

Date of application for amendment: July 2, 2009, as supplemented October 5, 2009.

Brief description of amendment: The proposed amendment would revise the Technical Specifications (TS) by removing position indication for the relief valves from TS 3.6.11, “Accident Monitoring Instrumentation.” The proposed amendment would also correct an editorial error in the title of Table 4.6.11.

Date of publication of individual notice in Federal Register: October 14, 2009 (74 FR 52826).

Expiration date of individual notice: December 14, 2009.

Nine Mile Point Nuclear Station, LLC, Docket No. 50-220, Nine Mile Point Nuclear Station, Unit No. 1, Oswego County, New York

Date of application for amendment: September 18, 2009.

Brief description of amendment: The proposed amendment would modify Technical Specification 3.2.9.1 and 4.2.7.1, “Primary Coolant System Pressure Isolation Values,” to incorporate requirements that are consistent with Section 3.4.5 of the Improved Standard TSs, NUREG-1433, Revision 3.

Date of publication of individual notice in Federal Register: October 14, 2009 (74 FR 52824).

Expiration date of individual notice: December 14, 2009.

Notice of Issuance of Amendments to Facility Operating Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment to Facility Operating License, Proposed No Significant Hazards Consideration Determination, and Opportunity for A Hearing in connection with these actions was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items are available for public inspection at the Commission's Public Document Room (PDR), located at One White Flint North, Public File Area 01F21, 11555 Rockville Pike (first floor), Rockville, Maryland. Publicly available records will be accessible from the Agencywide Documents Access and Management System (ADAMS) Public Electronic Reading Room on the internet at the NRC Web site, http://www.nrc.gov/reading-rm/adams.html. If you do not have access to ADAMS or if there are problems in accessing the documents located in ADAMS, contact the PDR Reference staff at 1 (800) 397-4209, (301) 415-4737 or by e-mail to pdr.resource@nrc.gov.

Calvert Cliffs Nuclear Power Plant, Inc., Docket Nos. 50-317 and 50-318, Calvert Cliffs Nuclear Power Plant, Unit Nos. 1 and 2, Calvert Cliffs Independent Spent Fuel Storage Installation, Docket No. 72-8, Calvert County, Maryland

Date of application for amendments: January 22, 2009, as supplemented by letters dated February 26, April 8, June 25, July 27, October 15, 19, 25 (two letters) 26, and 28, 2009.

Brief description of amendments: The amendments conform the licenses to reflect the direct transfer of Calvert Cliffs Nuclear Power Plant, Inc. to Calvert Cliffs Nuclear Power Plant, LLC, as approved by Commission Order dated October, 2009. Transfer of the license will also authorize Calvert Cliffs Nuclear Power Plant, LLC to store spent fuel in the Calvert Cliffs independent spent fuel storage installation.

Date of issuance: October 30, 2009.

Effective date: As of the date of issuance and shall be implemented within 30 days.

Amendment Nos.: 295 and 271.

Renewed Facility Operating License Nos. DPR-53 and DPR-69: Amendments revised the License.

Date of initial notice in Federal Register: May 7, 2009 (74 FR 21413).

The letters dated February 26, April 8, June 25, July 27, October 15, October 19, October 25 (two letters), October 26, and October 28, 2009, provided additional information that clarified the application, did not expand the scope of the application as originally noticed, and did not change the staff's original proposed no significant hazards consideration determination as published in the Federal Register.

The Commission's related evaluation of the amendments is contained in a Safety Evaluation dated October 30, 2009.

No significant hazards consideration comments received: The NRC received comments from a member of the public on May 22, 2009. The comments did not provide any information additional to that in the application, nor did they provide any information contradictory to that provided in the application.

Duke Energy Carolinas, LLC, et al., Docket Nos. 50-413 and 50-414, Catawba Nuclear Station, Units 1 and 2, York County, South Carolina

Date of application for amendments: October 14, 2008.

Brief description of amendments: The amendments implemented Technical Specification Task Force (TSTF) Changes Travelers TSTF-479, Revision 0, “Changes to Reflect Revision of [Title 10 of the Code of Federal Regulations] 10 CFR 50.55a,” and TSTF-497, Revision 0, “Limit Inservice Testing [IST] Program SR [Surveillance Requirements] 3.0.2 Application to Frequencies of 2 Years or Less.” TSTF-479 and TSTF-497 revised the Technical Specification Administrative Controls section pertaining to requirements for the IST Program, consistent with the requirements of 10 CFR 50.55a(f)(4) for pumps and valves which are classified as American Society of Mechanical Engineers, Boiler and Pressure Vessel Code, Class 1, Class 2, and Class 3.

Date of issuance: October 30, 2009.

Effective date: As of the date of issuance and shall be implemented within 30 days from the date of issuance.

Amendment Nos.: 252 and 247.

Facility Operating License Nos. NPF-35 and NPF-52: Amendments revised the licenses and the technical specifications. The amendment also authorizes revisions to the Updated Facility Safety Analysis Report.

Date of initial notice in Federal Register: April 7, 2009 (74 FR 15769).

The Commission's related evaluation of the amendments is contained in a Safety Evaluation dated October 30, 2009.

No significant hazards consideration comments received: No.

Duke Energy Carolinas, LLC, et al., Docket Nos. 50-413 and 50-414, Catawba Nuclear Station, Units 1 and 2, York County, South Carolina

Date of application for amendments: October 8, 2008, supplemented by letter dated May 5, 2009.

Brief description of amendments: The amendments revised the Technical Specifications (TSs) by removing and updating portions of the TSs which are out of date or are obsolete including footnotes and references.

Date of issuance: October 30, 2009.

Effective date: As of the date of issuance and shall be implemented within 30 days from the date of issuance.

Amendment Nos.: 253 and 248.

Facility Operating License Nos. NPF-35 and NPF-52: Amendments revised the licenses and the TSs.

Date of initial notice in Federal Register: April 7, 2009 (74 FR 15769). The supplement dated May 5, 2009 provided additional information that clarified the application, did not expand the scope of the application as originally noticed, and did not change the staff's original proposed no significant hazards consideration determination.

The Commission's related evaluation of the amendments is contained in a Safety Evaluation dated October 30, 2009.

No significant hazards consideration comments received: No.

Entergy Nuclear Operations, Inc., (Entergy) Docket No. 50-247, Indian Point Nuclear Generating Unit No. 2, Westchester County, New York

Date of application for amendment: March 25, 2009.

Brief description of amendment: The amendment added two Emergency Core Cooling System (ECCS) valves to Technical Specifications (TS) Surveillance Requirement (SR) 3.5.2.1 for checking valve position every 7 days. The TS SR is designed to verify that ECCS valves whose single failure could cause loss of the ECCS function are in the required position with ac power removed so that misalignment or single failure cannot prevent completion of the ECCS function.

Date of issuance: October 29, 2009.

Effective date: As of the date of issuance, and shall be implemented prior to entering Mode 4 during startup from 2R19.

Amendment No.: 263.

Facility Operating License Nos. DPR-26 and DPR-64: The amendment revised the License and the Technical Specifications.

Date of initial notice in Federal Register: May 19, 2009 (74 FR 23444).

The Commission's related evaluation of the amendment is contained in a Safety Evaluation dated October 29, 2009.

No significant hazards consideration comments received: No.

Entergy Nuclear Vermont Yankee, LLC and Entergy Nuclear Operations, Inc., Docket No. 50-271, Vermont Yankee Nuclear Power Station, Vernon, Vermont

Date of application for amendment: May 5, 2009.

Brief description of amendment: The proposed amendment would revise the Technical Specification (TS) Section 6.7.C to change requirements related to the schedule for performing the 10 CFR Part 50, Appendix J, Type A test. Specifically, the proposed change would change the TS from requiring the test “no later than April 2010” to “prior to startup from the April 2010 refuel outage.”

Date of Issuance: October 28, 2009.

Effective date: As of the date of issuance, and shall be implemented within 60 days.

Amendment No.: 240.

Facility Operating License No. DPR-28: Amendment revised the License and Technical Specifications.

Date of initial notice in Federal Register: June 30, 2009 (74 FR 31320).

The Commission's related evaluation of the amendment is contained in a safety evaluation dated October 28, 2009.

No significant hazards consideration comments received: No.

Entergy Operations, Inc., Docket No. 50-313, Arkansas Nuclear One, Unit No. 1, Pope County, Arkansas

Date of amendment request: October 22, 2007, as supplemented by letters dated January 12 and October 22, 2009.

Brief description of amendment: The amendment added a new license condition 2.c.(10) on the control room envelope (CRE) habitability program; revised the Technical Specification (TS) requirements related to the CRE habitability in TS 3.7.9, “Control Room Emergency Ventilation System (CREVS)”; and added a new administrative controls program, TS 5.5.5, “Control Room Envelope Habitability Program.” These changes are consistent with the NRC-approved Industry/TS Task Force (TSTF) change traveler TSTF-448, Revision 3, “Control Room Envelope Habitability.” The availability of this TS improvement was published in the Federal Register on January 17, 2007 (72 FR 2022), as part of the Consolidated Line Item Improvement Process.

Date of issuance: October 29, 2009.

Effective date: As of its date of issuance and shall be implemented within 30 days from the implementation of the Alternate Source Term license Amendment No. 238.

Amendment No.: 239.

Renewed Facility Operating License No. DPR-51: Amendment revised the Technical Specifications/license.

Date of initial notice in Federal Register: December 18, 2007 (72 FR 71708). The supplemental letters dated January 12 and October 22, 2009 provided additional information that clarified the application, did not expand the scope of the application as originally noticed, and did not change the staff's original proposed no significant hazards consideration determination as published in the Federal Register.

The Commission's related evaluation of the amendment is contained in a Safety Evaluation dated October 29, 2009.

No significant hazards consideration comments received: No.

Entergy Operations, Inc., Docket No. 50-368, Arkansas Nuclear One, Unit No. 2, Pope County, Arkansas

Date of application for amendment: October 22, 2007, as supplemented by letter dated January 12, 2009.

Brief description of amendment: The amendment added a new license condition 2.c.(11) on the control room envelope (CRE) habitability program; revised Technical Specification (TS) requirements related to the CRE habitability in TS 3/4.7.6, “Control Room Emergency Ventilation and Air Conditioning System”; and added a new administrative controls program, TS 6.5.12, “Control Room Envelope Habitability Program.” These changes are consistent with the NRC-approved Industry/TS Task Force (TSTF) change traveler TSTF-448, Revision 3, “Control Room Envelope Habitability.” The availability of this TS improvement was published in the Federal Register on January 17, 2007 (72 FR 2022), as part of the Consolidated Line Item Improvement Process.

Date of issuance: October 29, 2009.

Effective date: As of the date of issuance and shall be implemented within 30 days from the date of the implementation of the Alternate Source Term license Amendment No. 238 for Arkansas Nuclear One, Unit No. 1.

Amendment No.: 288.

Renewed Facility Operating License No. NPF-6: Amendment revised the Technical Specifications/license.

Date of initial notice in Federal Register: December 18, 2007 (72 FR 71710). The supplemental letter dated January 12, 2009 provided additional information that clarified the application, did not expand the scope of the application as originally noticed, and did not change the staff's original proposed no significant hazards consideration determination as published in the Federal Register.

The Commission's related evaluation of the amendment is contained in a Safety Evaluation dated October 29, 2009.

No significant hazards consideration comments received: No.

Entergy Operations, Inc., Docket No. 50-382, Waterford Steam Electric Station, Unit 3, St. Charles Parish, Louisiana

Date of amendment request: June 3, 2009, as supplemented by letters dated September 22 and October 6, 2009.

Brief description of amendment: The amendment modified the departure from nucleate boiling ratio (DNBR) safety limit in Technical Specification (TS) 2.1.1.1, “DNBR,” based upon the Combustion Engineering 16x16 Next Generation Fuel design and the associated departure from nucleate boiling correlations.

Date of issuance: November 3, 2009.

Effective date: As of the date of issuance and shall be implemented after the current cycle (Cycle 16) is completed and prior to the start of Cycle 17.

Amendment No.: 224.

Facility Operating License No. NPF-38: The amendment revised the Facility Operating License and Technical Specifications.

Date of initial notice in Federal Register: July 14, 2009 (74 FR 34047). The supplements dated September 22 and October 6, 2009 provided additional information that clarified the application, did not expand the scope of the application as originally noticed, and did not change the staff's original proposed no significant hazards consideration determination as published in the Federal Register.

The Commission's related evaluation of the amendment is contained in a Safety Evaluation dated November 3, 2009.

No significant hazards consideration comments received: No.

Exelon Generating Company, LLC, Docket No. 50-219, Oyster Creek Nuclear Generating Station, Ocean County, New Jersey

Date of application for amendment: June 9, 2008, as supplemented by letters dated March 30, 2009 and September 4, 2009.

Brief description of amendment: The amendment revised Surveillance Requirement 4.2.D to decrease the frequency of performing control rod drive rod notch testing from weekly to once per 31 days.

Date of issuance: October 22, 2009.

Effective date: As of its date of issuance, and shall be implemented within 60 days.

Amendment No.: 275.

Renewed Facility Operating License No. DPR-16: The amendment revised the License and Technical Specifications.

Date of initial notice in Federal Register: August 12, 2008 (73 FR 46928). The supplements dated March 30, 2009 and September 4, 2009 provided additional information that clarified the application, did not expand the scope of the application as originally noticed, and did not change the NRC staff's original proposed no significant hazards determination.

The Commission's related evaluation of the amendment is contained in a Safety Evaluation dated October 22, 2009.

No significant hazards consideration comments received: No.

Exelon Generation Company, LLC, Docket No. 50-461, Clinton Power Station, Unit No. 1, DeWitt County, Illinois

Date of application for amendment: April 22, 2009.

Brief description of amendment: The amendment would revise the inservice testing (IST) requirements from the American Society of Mechanical Engineers (ASME) Boiler and Pressure Vessel (BPV) Code, Section XI, to the ASME Code for Operation and Maintenance of Nuclear Power Plants (OM Code) and applicable addenda. This change would eliminate the ASME Code inconsistency between the IST program and the TS as required by Title 10 of the Code of Federal Regulations (10 CFR) 50.55a(f)(5)(ii). Additionally, the amendment would extend the applicability of surveillance requirement (SR) 3.0.2 provisions to other normal and accelerated frequencies specified as 2 years or less in the IST program. Finally, the amendment will remove the phrase “including applicable supports” from TS Section 5.5.6. TS Section 5.5.6, IST Program, and the associated TS Bases would be revised under this TS amendment.

Date of issuance: October 30, 2009.

Effective date: As of the date of issuance and shall be implemented within 30 days.

Amendment No.: 189.

Facility Operating License No. NPF-62: The amendment revised the Technical Specifications and License.

Date of initial notice in Federal Register: August 11, 2009 (74 FR 40238).

The Commission's related evaluation of the amendment is contained in a Safety Evaluation dated October 30, 2009.

No significant hazards consideration comments received: No.

Exelon Generation Company, LLC, Docket Nos. 50-254 and 50-265, Quad Cities Nuclear Power Station, Units 1 and 2, Rock Island County, Illinois

Date of application for amendments: October 9, 2007, as supplemented by letter dated January 30, 2009.

Brief description of amendments: The amendments modify the technical specifications to risk-inform requirements regarding selected Required Action End States as provided in Technical Specification Task Force (TSTF) Change Traveler TSTF-423, Revision 0, “Technical Specifications End States, NEDC-32988-A, Revision 2.”

Date of issuance: October 21, 2009.

Effective date: As of the date of issuance and shall be implemented within 120 days.

Amendment Nos.: 245/240.

Renewed Facility Operating License Nos. DPR-29 and DPR-30: The amendments revised the Technical Specifications and License.

Date of initial notice in Federal Register: December 14, 2005 (70 FR 74037).

The January 30, 2009, supplement contained clarifying information and did not change the NRC staff's initial proposed finding of no significant hazards consideration.

The Commission's related evaluation of the amendments is contained in a Safety Evaluation dated October 21, 2009.

No significant hazards consideration comments received: No.

Florida Power and Light Company, Docket Nos. 50-250 and 50-251, Turkey Point Plant, Units 3 and 4, Miami-Dade County, Florida

Date of application for amendments: July 23, 2009, as supplemented by letters dated September 30 and October 26, 2006.

Brief description of amendments: The amendments revise the inspection scope and repair requirments of Technical Specification (TS) 6.8.4.j, “Steam Generator (SG) Program” and to the reporting requirements of TS 6.9.1.8, “Steam Generator (SG) Tube Inspection Report.”

Date of issuance: October 30, 2009.

Effective date: As of the date of issuance and shall be implemented within 30 days of issuance.

Amendment Nos.: 241 and 236.

Renewed Facility Operating License Nos. DPR-31 and DPR-41: Amendments revised the Technical Specifications.

Date of initial notice in Federal Register: August 28, 2009 (74 FR 44405).

The supplements dated September 30 and October 26, 2009, provided additional information that clarified the application, did not expand the scope of the application as originally noticed, and did not change the staff's original proposed no significant hazards consideration determination as published in the Federal Register.

The Commission's related evaluation of the amendments is contained in a Safety Evaluation dated October 30, 2009.

No significant hazards consideration comments received: No.

FPL Energy, Point Beach, LLC, Docket Nos. 50-266 and 50-301, Point Beach Nuclear Plant, Units 1 and 2, Town of Two Creeks, Manitowoc County, Wisconsin

Date of application for amendments: November 25, 2008 as supplemented by letters dated March 4, April 8, and September 15, 2009.

Brief description of amendments: Amend Renewed Operating Licenses DPR-24 and DPR-27 for Point Beach Nuclear Plant Units 1 and 2 to incorporate new Large-Break LOCA (LBLOCA) analyses using the realistic LBLOCA methodology contained in Nuclear Regulatory Commission-approved WCAP-16009-P-A, “Realistic Large-Break LOCA Evaluation Methodology Using Automated Statistical Treatment of Uncertainty Method (ASTRUM),” and to revise Technical Specification (TS) 5.6.4.b to include reference to WCAP-16009-P-A.

Date of issuance: October 29, 2009.

Effective date: As of the date of issuance and shall be implemented within 60 days.

Amendment Nos.: Unit 1—235, Unit 2—239.

Renewed Facility Operating License Nos. DPR-24 and DPR-27: Amendments revised the Technical Specifications/License.

Date of initial notice in Federal Register: January 13, 2009 (74 FR 1714).

The March 4, April 8, and September 15, 2009, supplements, contained clarifying information and did not change the staff's initial proposed finding of no significant hazards consideration.

The Commission's related evaluation of the amendments is contained in a Safety Evaluation dated October 29, 2009.

No significant hazards consideration comments received: No.

Tennessee Valley Authority, Docket No. 50-390, Watts Bar Nuclear Plant (WBN), Unit 1, Rhea County, Tennessee

Date of application for amendment: July 9, 2009.

Brief description of amendment: The amendment revised Technical Specification (TS) 1.1, “Definitions;” TS 3.1.8, “Rod Position Indication;” TS 3.2.1, “Heat Flux Hot Channel Factor;” TS 3.2.4, “Quadrant Power Tilt Ratio (QPTR);” and TS 3.3.1, “Reactor Trip System (RTS) Instrumentation.”

Date of issuance: October 27, 2009.

Effective date: As of the date of issuance and shall be implemented no later than October 31, 2010.

Amendment No.: 82.

Facility Operating License No. NPF-90: Amendment revised TSs 1.1, 3.1.8, 3.2.1, 3.2.4, and 3.3.1.

Date of initial notice in Federal Register: August 25, 2009 (74 FR 42930).

The Commission's related evaluation of the amendment is contained in a Safety Evaluation dated October 27, 2009.

No significant hazards consideration comments received: No.

Virginia Electric and Power Company, et al., Docket Nos. 50-280 and 50-281, Surry Power Station, Units 1 and 2, Surry County, Virginia

Date of application for amendments: October 9, 2008, as supplemented by letters dated November 17, 2008, and December 10, 2008.

Brief Description of amendments: These amendments revise the Technical Specifications to (1) delete TS 3.19, “Main Control Room Bottled Air System,” (2) add new TS 3.7F, “MCR/ESGR Envelope Isolation Actuation Instrumentation”, to provide operability requirements for the manual initiation of the MCR/ESGR envelope isolation actuation instrumentation, (3) replace existing TS 3.10.A.12 and TS 3.10. B.5, which include operability requirements for the MCR bottled air system during refueling operations and irradiated fuel movement, respectively, with TS operability requirements for manual actuation of the MCR/ESGR envelope isolation actuation instrumentation during these conditions, (4) replace existing Item 15, “Control Room Bottled Air Test,” of TS Table 4.1-2A, “Minimum Frequency for Equipment Tests,” with new item 15, “MCR/ESGR Envelope Isolation Actuation Instrumentation—Manual,” surveillance requirements, (5) revise TS 6.4.R, “Main Control Room/Emergency Switchgear Room (MCR/ESGR) Envelope Habitability Program,” to delete reference to the MCR bottled air system and the emergency habitability system, (6) delete Specification 3.19, “Main Control Room Bottled Air System,” from the TS Table of Contents.

Date of issuance: October 29, 2009.

Effective date: As of the date of issuance and shall be implemented within 60 days.

Amendment Nos.: 266, 265.

Renewed Facility Operating License Nos. DPR-32 and DPR-37: Amendments change the licenses and the technical specifications.

Date of initial notice in Federal Register: December 16, 2008 (73 FR 76415).

The supplements dated November 17, 2008 and December 10, 2008 provided additional information that clarified the application, did not expand the scope of the application as originally noticed, and did not change the staff's original proposed no significant hazards consideration determination.

The Commission's related evaluation of the amendments is contained in a Safety Evaluation dated October 29, 2009.

No significant hazards consideration comments received: No.

Virginia Electric and Power Company, Docket Nos. 50-338 and 50-339, North Anna Power Station, Units 1 and 2, Louisa County, Virginia

Date of application for amendment: March 26, July 8, 16, and 24, 2009.

Brief description of amendment: The amendments increase each unit's rated thermal power (RTP) level from 2893 megawatts thermal (MWt) to 2940 MWt, and made technical specification changes as necessary to support operation at the uprated power level. The change is an increase in RTP of approximately 1.6 percent.

Date of issuance: October 22, 2009.

Effective date: This license amendment is effective as of its date of issuance and shall be implemented by July 14, 2010. Accordingly, scheduled completion dates listed in License Condition 2.H., shall be completed to the satisfaction of the Commission within the stated time periods following the issuance of the condition and shall determine the environmental qualification service life of the excore detectors and incorporate changes in the qualified lifetime of this equipment into environmental qualification program documentation, prior to operating above the current maximum operating level of 2893 MWt, as described in Virginia Electric and Power Company's letters dated March 26, 2009, July 8, 2009, and July 24, 2009.

Amendment Nos.: 257 and 238.

Renewed Facility Operating License Nos. NPF-4 and NPF-7: Amendments changed the licenses and the technical specifications.

Date of initial notice in Federal Register: May 19, 2009 (74 FR 23449).

The supplements dated July 8, 16, and 24, 2009, provided additional information that clarified the application, did not expand the scope of the application as originally noticed, and did not change the staff's original proposed no significant hazards consideration determination. The Commission's related evaluation of the amendments is contained in a Safety Evaluation dated October 22, 2009.

No significant hazards consideration comments received: No.

Dated at Rockville, Maryland, this 6th day of November 2009.
For the Nuclear Regulatory Commission.
Joseph G. Giitter,
Director, Division of Operating Reactor Licensing, Office of Nuclear Reactor Regulation.

[FR Doc. E9-27406 Filed 11-13-09; 8:45 am]

BILLING CODE 7590-01-P